DEPARTMENT OF DEFENSE

Department of the Army; Corps of Engineers

Notice of Availability for the Final Environmental Impact Statement for Hemet/San Jacinto Integrated Recharge and Recovery Project, Riverside County, CA

AGENCY: Department of the Army—U.S. Army Corps of Engineers, DoD.

ACTION: Notice of availability.

SUMMARY: The U.S. Army Corps of Engineers, Los Angeles District (Regulatory Division), in coordination with the Eastern Municipal Water District (EMWD), has completed a Final Environmental Impact Statement (EIS) for the Hemet/San Jacinto Integrated Recharge and Recovery Project. EMWD requires authorization pursuant to Section 404 of the Clean Water Act for 15.9 acres of fill into waters of the U.S.

FOR FURTHER INFORMATION CONTACT: Questions or comments concerning the Final EIS should be directed to Dr. Daniel P. Swenson, Regulatory Division, U.S. Army Corps of Engineers, P.O. Box 532711, Los Angeles, CA, 90053, (213) 452-3414. Comments should be submitted no later than May 10, 2007.

SUPPLEMENTARY INFORMATION: None.

Mark Durham,
Acting Chief, Regulatory Division.

[FR Doc. E7-6723 Filed 4-9-07; 8:45 am]

BILLING CODE 3710-KF-P